DEPARTMENT OF HEALTH AND HUMAN SERVICES

Health Resources and Services Administration

Agency Information Collection Activities: Proposed Collection; Public Comment Request; Application and Other Forms Used by the National Health Service Corps Scholarship Program, the NHSC Students to Service Loan Repayment Program, and the Native Hawaiian Health Scholarship Program

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than April 17, 2023.

ADDRESSES: Submit your comments to paperwork@hrsa.gov or mail the HRSA Information Collection Clearance Officer, Room 14N136B, 5600 Fishers Lane, Rockville, Maryland 20857.

FOR FURTHER INFORMATION CONTACT: To request more information on the proposed project or to obtain a copy of the data collection plans and draft instruments, email paperwork@hrsa.gov or call Samantha Miller, the acting HRSA Information Collection Clearance Officer, at 301-594-4394.

SUPPLEMENTARY INFORMATION:

Information Collection Request Title: Application and Other Forms Used by the National Health Service Corps (NHSC) Scholarship Program (SP), the NHSC Students to Service Loan Repayment Program (S2S LRP), and the Native Hawaiian Health Scholarship Program (NHHSP), OMB No. 0915-0146-Revision.

Abstract: Administered by HRSA's Bureau of Health Workforce, the NHSC SP, NHSC S2S LRP, and the NHHSP provide scholarships or loan repayment to qualified students who are pursuing primary care health professions education and training. In return, students agree to provide primary health care services in underserved communities located in federally designated Health Professional Shortage Areas once they are fully trained and licensed health professionals. Awards are made to applicants who demonstrate the greatest potential for successful completion of their education and training as well as commitment to provide primary health care services to communities of greatest need. The information from program applications, forms, and supporting documentation is used to select the best qualified candidates for these competitive awards, and to monitor program participants' enrollment in school, postgraduate training, and compliance with program requirements.

Although some program forms vary from program to program (see program-specific burden charts below), required forms generally include: a program application, academic and non-academic letters of recommendation, the authorization to release information, and the acceptance/verification of good academic standing report. The NHHSP is not seeking to change or add any forms or documentation.

Need and Proposed Use of the Information: The NHSC SP, S2S LRP, and NHHSP applications, forms, and supporting documentation are used to collect necessary information from applicants and schools that enable HRSA to make selection determinations for the competitive awards and monitor compliance (via training programs and sites) with program requirements.

Likely Respondents: Qualified students who are pursuing education and training in primary care health professions and are interested in working in health professional shortage areas and schools at which such students are enrolled.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
NHSC Scholarship Program Application
NHSC Scholarship Program Application | 2,575 | 1 | 2,575 | 2.00 | 5150.00
Letters of Recommendation | 2,575 | 2 | 5,150 | 1.00 | 5150.00
Authorization to Release Information | 2,575 | 1 | 2,575 | .10 | 257.50
Acceptance/Verification of Good Standing Report | 2,575 | 1 | 2,575 | .25 | 643.75
Verification of Disadvantaged Background Status | 615 | 1 | 615 | .25 | 153.75
Total | * 2,575 |  | 13,490 |  | 11,355.00
NHSC awardees/schools/post graduate training programs/sites
Data Collection Worksheet | 400 | 1 | 400 | 1.00 | 400
Post Graduate Training Verification Form | 100 | 1 | 100 | .50 | 50
Enrollment Verification Form | 600 | 2 | 1,200 | .50 | 600
Total | * 600 |  | 1,700 |  | 1,050
NHSC Students to Service Loan Repayment Program Application
NHSC Students to Service Loan Repayment Program Application | 284 | 1 | 284 | 2.00 | 568.00
Letters of Recommendation | 284 | 2 | 284 | 1.00 | 568.00
Authorization to Release Information | 284 | 1 | 284 | .10 | 28.40
Acceptance/Verification of Good Standing Report | 284 | 1 | 284 | .25 | 71.00
Verification of Disadvantaged Background Status | 84 | 1 | 84 | .25 | 21.00
Total | * 284 |  | 1,220 |  | 1,256.40
Native Hawaiian Health Scholarship Program Application
Native Hawaiian Health Scholarship Program Application | 310 | 1.00 | 310 | 2.00 | 620.00
Letters of Recommendation | 310 | 2.00 | 620 | .25 | 155.00
Authorization to Release Information | 310 | 1.00 | 310 | .25 | 77.50
Acceptance/Verification of Good Standing Report | 40 | 1.00 | 40 | .25 | 10.00
Scholar Enrollment Verification Form | 40 | 7.50 | 300 | .50 | 150.00
Change in Program Curriculum Form | 40 | 2.00 | 80 | .25 | 20.00
NHHSP Graduation Documentation Form | 40 | 1.00 | 40 | .25 | 10.00
Total | * 310 |  | 1700 |  | 1042.50
* Certain documents are submitted by a subset of respondents consistent with program requirements.
** Please note that the same group of respondents may complete each form as necessary.

Maria G. Button,
Director, Executive Secretariat.

[FR Doc. 2023-03109 Filed 2-13-23; 8:45 am]

BILLING CODE 4165-15-P